DEPARTMENT OF AGRICULTURE

Forest Service

Notice of Meeting; Southwest Oregon Provincial Advisory Committee

SUMMARY: The Southwest Oregon Provincial Advisory Committee will meet on Tuesday, October 10, 2006, and Wednesday, October 11, 2006, to discuss topics including biomass utilization in Southwest Oregon, incentives for encouraging biomass utilization, and local examples of biomass utilization. The meeting will be held at the Umpqua National Forest Supervisor's office, at 2900 NW. Stewart Parkway in Roseburg, Oregon. The meeting will begin at 10:30 a.m. on October 10th with a fieldtrip and end at approximately 5 p.m. On Wednesday, the meeting will begin at 8 a.m. and end at 3:30 p.m. Written comments may be submitted prior to the meeting and delivered to the Designated Federal Official Jay Carlson at the Roseburg Bureau of Land Management, 777 Garden Valley Boulevard, Roseburg, OR 97470.

FOR FURTHER INFORMATION CONTACT: Umpqua National Forest Public Affairs Officer Cheryl Walters at (541) 957-3270, e-mail: crwalters@fs.fed.us, or write Umpqua National Forest, 2900 NW. Stewart Parkway, Roseburg, OR 97470.

Dated: September 12, 2006.
Clifford J. Dils,
Forest Supervisor, Umpqua National Forest.

[FR Doc. 06-7712 Filed 9-15-06; 8:45 am]

BILLING CODE 3410-11-M